DEPARTMENT OF COMMERCE

International Trade Administration

Safety & Security Trade Mission; Mexico City and Monterrey, Mexico

AGENCY: International Trade Administration.

ACTION: Notice.

Mission Description

The United States Department of Commerce, International Trade Administration, U.S. and Foreign Commercial Service (CS) is organizing an executive-led Safety and Security trade mission to Mexico City and Monterrey, Mexico, for January 30-February 2, 2012. This mission is intended to focus on a variety of U.S. industry and service providers, particularly those related to residential and industrial facility safety/security, personal protection, logistics and supply chain protection, law enforcement and public security. This mission specifically excludes munitions and items intended for military and defense purposes.

The mission will introduce mission participants to end-users and prospective partners whose needs and capabilities are targeted to the respective U.S. participant's strengths. Participating in an official U.S. industry delegation, rather than traveling to Mexico independently, will enhance the companies' ability to secure meetings with potential partners and buyers. The mission will include meetings with Federal, state and local government representatives; Mexican customs officials; airport and transportation authorities; police and law enforcement officials; and private sector industrial groups.

Commercial Setting

The nearly $4 billion in annual trade between the United States and Mexico is fueled in large part by industrial manufacturing centers located throughout northern and central Mexico, which is also supported by an ever-growing national cargo transportation industry. With growing concerns over drug cartel related violence, particularly along the border, U.S. and Mexican companies alike have taken steps to protect their business investments, specifically in terms of safety and security of personnel, physical assets and supply chain logistics. Public and private sector investment in safety and security services and equipment is growing, particularly as companies are taking extra measures to ensure protection for their employees, such as the use of private security companies and armored vehicles. For a variety of products and services related to safety and security, U.S. companies can expect excellent sales prospects in both the public and private sectors of the Mexican market.

Given its dominance in this sector, Mexico City is the main stop on the mission. Many of the country's top distributors are based in this market, as well as procurement decision makers at the Federal level. The timing of this mission will allow new to market companies the chance to identify sales representatives and distributors in time for ExpoSeguridad (April 24-26, 2012), Mexico's leading security trade show. The second stop of this trade mission will be Monterrey, Mexico's northern financial and manufacturing heartland. Mexico's largest industrial groups are headquartered in Monterrey, including manufacturers of beer, steel, glass, and cement, as well as national manufacturing industries such as automotive, electronics, household goods and software. The corporate response to security threats in Monterrey, as in other regions, has been increased investment in safety and security solutions to protect company assets, particularly employees, both within the plant as well as beyond facility perimeters.

Best Prospects: Opportunities in the public security and personal protection markets could include protective gear (bullet-proof vests and clothing), forensics, trace detection equipment, armoring, specialty vehicles, metal detectors, non-intrusive scanning equipment, mobile command centers and communications equipment, etc. Residential and corporate hot prospects include alarm systems, CCTV and surveillance, perimeter protection, locks and safes, home automation and fire protection, and “safe room” design and construction. For the industrial manufacturing sector, best prospects would include protective clothing (such as gloves, goggles, hazmat suits, safety footwear, anti-static protection, and particulate respirators), as well as facilities access controls, surveillance equipment, hazardous materials handling, logistics protection and supply chain tracking (RFID, GPS). Training and capacity building services (e.g. security guards, drivers) are in high demand for all sub-sectors.

Mission Goals

The short term goals of the Safety & Security Trade Mission to Mexico are, (1) To introduce U.S. companies to potential end-users, joint-venture partners and other industry representatives in Mexico City, Monterrey, and their surrounding areas, and (2) to introduce U.S. companies to the industry leaders and government officials in Mexico City and Monterrey to learn about various opportunities in the safety and security industries.

Mission Scenario

Upon arrival in Mexico City on January 30, participants will check into the hotel, and participate in a commercial briefing on Central Mexico, followed by a networking welcome reception at the residence of the U.S. Ambassador, where they will meet key government and industry contacts in the Mexico City area. The morning of January 31 begins with a breakfast event to present the U.S. trade mission companies to a wide audience, including Federal/state/municipal government and law enforcement representatives from several states and cities across Central Mexico, as well as airport operators and transportation authorities, industrial manufacturing groups, and other potential buyers and end-users. The event will also feature short technical presentations from national security experts, as well as an update on the Merida Initiative by U.S. Embassy representatives. The morning event concludes with one-on-one matchmaking at the hotel with invited guests from outside of Mexico City, followed by additional appointments in and around Mexico City throughout the remainder of the day. That evening, mission participants have the option of participating in a no-host dinner at a local restaurant—group transportation will be provided.

On February 1, participants will depart Mexico City and travel to Monterrey, where they will be welcomed with a commercial briefing focused on the unique market that is Northern Mexico and the border region, followed by a networking reception with key contacts at the Consul General's official residence. Gold Key matchmaking appointments will be scheduled throughout the day on February 2, primarily at the hotel or other centralized location, to ensure participant security.

The following items are included in the price of the trade mission:

• Pre-travel webinar briefing, covering Mexican business practices and security;

• National promotion of trade mission, including wide circulation of printed company directory;

• Welcome reception at Ambassador's residence in Mexico City on January 30;

• Continental breakfast during the Mexico City event on January 31;

• Networking reception with industry contacts in Monterrey on February 1;

• Group transportation to all receptions, and optional no-host dinner in Mexico City;

• Preferential hotel rates in Mexico City and Monterrey;

• Pre-scheduled meetings with potential partners, distributors, end users, or local industry contacts in Mexico City, Monterrey and surrounding cities;

• A designated escort/translator to provide assistance during scheduled matchmaking meetings.

Proposed Timetable

The mission program will begin on the evening of Monday, January 30, 2012, and continue through the evening of February 2, 2012.

January 30 | Mexico City.
| Commercial Briefing: Central Mexico market, Federal/state government procurement.
| Welcome reception at Ambassador's Residence.
January 31 | Mexico City.
| Breakfast Event with Federal, State and Local Representatives.
| One-on-one meetings with potential clients, distributors/representatives.
| Group dinner at local restaurant (no host).
February 1 | Mexico City/Monterrey.
| Breakfast (no host).
| Depart Mexico City.
| Arrival/Hotel check-in Monterrey.
| Evening Reception at Consul General's Residence.
February 2 | Monterrey.
| Breakfast (no host).
| Commercial Briefing: Northern Mexico market, industrial security, border business.
| Gold Key matchmaking meetings with potential clients, distributors/representatives.
| Late departure Monterrey or overnight stay (recommended).

Participation Requirements

All parties interested in participating in the Safety & Security Trade Mission to Mexico must complete and submit an application for consideration by U.S. Department of Commerce. All applicants will be evaluated on their ability to meet certain conditions and to satisfy the selection criteria as outlined below. This mission has a goal of a minimum of 15 and a maximum of 20 companies to be selected to participate in the mission from the applicant pool. U.S. companies already doing business in Mexico as well as U.S. companies seeking to enter the market for the first time are encouraged to apply.

Fees and Expenses

After a company has been selected to participate on the mission, a payment to the U.S. Department of Commerce in the form of a participation fee is required. The participation fee will be US $ 3,500 for large firms and $3,000 for a small or medium-sized enterprise (SME).¹ The fee for each additional firm representative (large firm or SME) is $300. Expenses for air travel (to Mexico City, Monterrey, and return), lodging, meals and incidentals will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria:

• Suitability of a company's products or services to the mission's goals.

• Applicant's potential for business in Mexico, including likelihood of exports resulting from the trade mission.

• Consistency of the applicant's goals and objectives with the stated scope of the trade mission (i.e., the sectors indicated in the mission description).

Referrals from political organizations and any documents containing references to partisan political activities (including political contributions) will be removed from an applicant's submission and not considered during the selection process.

Timeframe for Recruitment and Applications

Mission recruitment will be conducted in an open and public manner, including publication in the Federal Register, posting on the Commerce Department trade mission calendar (http://export.gov/trademissions/eg_main_023185.asp) and other Internet Web sites, press releases to general and trade media, direct mail, industry trade associations and other multiplier groups, and publicity at industry meetings, symposia, conferences, and trade shows.

Recruitment for the mission will begin immediately and conclude no later than November 15, 2011. CS Mexico will review all applications immediately after the deadline. We will inform applicants of selection decisions as soon as possible after November 15, 2011. Applications received after that date will be considered only if space and scheduling constraints permit.

Contacts

U.S. Commercial Service Mexico Contacts

Ms. Dinah McDougall, Commercial Officer, U.S. Commercial Service Mexico—Mexico City, Tel: (011-52-55) 5140-2620, dinah.mcdougall@trade.gov.

Ms. Silvia Cardenas, Commercial Specialist, U.S. Commercial Service Mexico—Mexico City, Tel: (011-52-55) 5140-2670, silvia.cardenas@trade.gov.

Mr. John Howell, Commercial Officer, U.S. Commercial Service Mexico—Monterrey, Tel: (011-52-81) 8047-3223, john.howell@trade.gov.

Mr. Mario Vidaña, Commercial Specialist, U.S. Commercial Service Mexico—Monterrey, Tel: (011-52-81) 8047-3118, mario.vidana@trade.gov.

Elnora Moye,
Commercial Service Trade Mission Program, U.S. Department of Commerce.

[FR Doc. 2011-24289 Filed 9-21-11; 8:45 am]

BILLING CODE 3510-FP-P